DEPARTMENT OF TRANSPORTATION

Maritime Administration

[Docket Number: MARAD-2000-7329]

Requested Administrative Waiver of the Coastwise Trade Laws

AGENCY: Maritime Administration, Department of Transportation.

ACTION: Invitation for public comments on a requested administrative waiver of the Coastwise Trade Laws for the vessel TROPICAL ATTITUDES.

SUMMARY: As authorized by Public Law 105-383, the Secretary of Transportation, as represented by the Maritime Administration (MARAD), is authorized to grant waivers of the U.S. build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before June 5, 2000.

ADDRESSES: Comments should refer to docket number MARAD-2000-7329. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR 832 Room 7201, 400 Seventh Street, SW, Washington, DC 20590. Telephone 202-366-0760.

SUPPLEMENTARY INFORMATION: Title V of Public Law 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commentor's interest in the waiver application, and address the waiver criteria given in § 388.4 of MARAD'S regulations at 46 CFR part 388.

Vessel Proposed for Waiver of the U.S.-build Requirement

(1) Name of vessel and owner for which waiver is requested: Name of vessel: TROPICAL ATTITUDES, Owner: Winkin, Inc. of Dover, DE.

(2) Size, capacity and tonnage of vessel: According to the Applicant “TROPICAL ATTITUDES is 39′ in length, with a beam of 20′7″ and a gross tonnage of 8 tons (7 net tons) measured pursuant to 46 U.S. C. 14502.”

(3) Intended use for vessel, including geographic region of intended operation and trade. According to the applicant: “The intended use of the vessel, after the granting of a waiver, is to conduct live-aboard sailing catamaran charters in the Florida Keys. The maximum number of passengers on any such charter will be six, enabling the vessel to operate as an uninspected vessel with a coastwise endorsement. These charters will be conducted by CCJ Inc, a Florida Corporation, and citizen of the United States.”

(4) Date and place of construction and (if applicable) rebuilding. Date of construction: 1989, place of construction: Les Sables D'Olonnes, France.

(5) A statement on the impact this waiver will have on other commercial passenger vessel operators. According to the applicant: “Since there are presently no other such operators offering live-aboard Catamaran sailing charters in the Florida Keys, we feel that we would not in any way be adversely affecting any other commercial vessel operators in the area. In fact, though there are many charter vessels for hire operating in the Florida Keys, there are few that offer any type of live-aboard arrangements and no other sailing catamaran based in the Florida Keys offers charters of this kind.”

(6) A statement on the impact this waiver will have on U.S. shipyards. According to the applicant: “Since there are very few U.S. shipbuilders manufacturing vessels comparable to the Privilege 39, we do not feel that our small operation will in any way adversely affect U.S. shipbuilders. We do feel, however, that the impact the operation will have on U.S. shipyards will be a positive one, as haul-outs and refits will be performed in U.S. shipyards. In addition, though we wish to start this operation on a small scale, we hope for future plans to include expansion into a larger vessel which will be U.S. built and certified as an Inspected Vessel as the business grows.”

By Order of the Maritime Administrator.
Dated: May 2, 2000.
Joel C. Richard,
Secretary, Maritime Administration.

[FR Doc. 00-11315 Filed 5-4-00; 8:45 am]

BILLING CODE 4910-81-P